DEPARTMENT OF THE INTERIOR

Bureau of Safety and Environmental Enforcement

30 CFR Parts 203, 250, 251, 252, 254, 256, 280, 282, 290, and 291

[Docket ID: BSEE-2016-0006; EEEE500000 16XE1700DX EX1SF0000.DAQ000]

RIN 1014-AA15

Oil and Gas and Sulphur Operations in the Outer Continental Shelf—Technical Corrections

AGENCY: Bureau of Safety and Environmental Enforcement (BSEE), Interior.

ACTION: Final rule.

SUMMARY: This rule makes minor edits, changes, and updates to BSEE regulations. These changes include, but are not limited to: correcting all current Office of Management and Budget (OMB) control numbers from “1010” to “1014”; adding two new control numbers to regulations as required by the Paperwork Reduction Act (PRA); changing the BSEE address from “Herndon, VA” to “Sterling, VA”; changing “shall” to “will” or “must” and changing “which” to “that”; and revising other language where necessary for improved clarity.

DATES: This rule becomes effective on July 28, 2016.

FOR FURTHER INFORMATION CONTACT: Amy White, Regulations and Standards Branch at (703) 787-1665 or email at regs@bsee.gov.

SUPPLEMENTARY INFORMATION:

Background

The technical corrections in this rulemaking affect offshore operators, lessees, pipeline right-of-way holders, and permittees. The corrections are necessary to reflect accurate regulatory citations, add or change a few words for clarification, and revise section numbering. Also, regulatory text that was inadvertently removed in a 2013 regulatory update is being re-inserted where it belongs. These corrections will make the regulations easier to read, understand, and comprehend, but will not change the purpose, scope or effect of the regulations.

Because this rule makes no substantive change in any rule or requirement, BSEE for good cause finds that notice and public comment are unnecessary pursuant to 5 U.S.C. 553(b)(3)(B).

This rulemaking will correct regulations in 30 CFR parts 203, 250, 251, 252, 254, 256, 280, 282, 290, and 291 to reflect the changes discussed below. The following table shows the current regulatory citation and what changes were made.

Section-by-Section Discussion

Current citation | Description of revision
30 CFR part 203 | Revises the authority citation for Part 203 from “43 U.S.C. 1331 et seq.” to “43 U.S.C. 1334”. Revises the “Herndon, VA” address to reflect the new address in “Sterling, VA”.
§ 203.3(b) | Provides a correct Web site address for the BSEE Fees for Services page (application fees) for electronic payments of royalty relief fees.
§ 203.5(a) | Corrects the OMB Control Number from “1010-0071” to “1014-0005”.
30 CFR part 250 | Revises the “Herndon, VA” address to reflect the new address in “Sterling, VA”.
§ 250.102(b) | Adds the word “part” before “250” in paragraphs (b)(1) through (b)(18) in the table of general references for these regulations.
§ 250.102(b) | Adds new paragraph (b)(19) to the table of general references for these regulations, to include “Safety and Environmental Management Systems (SEMS), 30 CFR part 250, subpart S”.
§ 250.114(a) | Adds the cross reference “(as incorporated by referenced in § 250.198)” after the phrase “Division 2”.
Undesignated Center Heading before § 250.118 | Adds “Gas Storage or Injection” as an undesignated center heading to assist the reader with the regulatory text that follows.
§ 250.126 | Provides a correct Web site address for the BSEE Fees for Services page (application fees) for electronic payments, adds the words “or permit,” and makes structural changes so that all text is contained in subsections (a) and (b).
§ 250.193(e)(2)(i)(C) | Corrects a previous rulemaking published April 5, 2013 (78 FR 20423), which inadvertently used as BSEE's address “Herndon, VA” when it should have read “Washington, DC”.
§ 250.198(d), (e), (g), (i), (j), (k), (m) | Updates these sections to reflect current phone numbers, URLs, and addresses of where the public can obtain standards and other documents incorporated by reference.
§ 205.405 | In the introductory paragraph, corrects “air take” to read “air intake”.
§ 250.610 | Removes an already-past deadline date for diesel engine air intake shut down equipment and rewrites the section in active voice. Corrects punctuation by adding missing commas.
§ 250.611 | Removes an already-past deadline date for traveling-block safety devices and rewrites the section in active voice.
§ 250.713(b) | Clarifies that site-specific information in approved plans may be relied upon to support permit issuance only when the approved plan covers “that” particular “well location and conditions” included in the APD.
§§ 250.803(b) and 250.901(a)(24) | Provides references to § 250.198 in instances where documents are incorporated by reference. The effect of incorporating a document into the regulations is to make the incorporated document a requirement.
§ 250.806(c) | Revises “MS-4020” to read “VAE-OORP” and revises BSEE's “Herndon, VA” address to read “Sterling, VA”.
§ 250.901(a)(24) | Adds the cross reference “(as incorporated by reference in § 250.198)”.
§ 250.904 | Corrects the split rulemaking (76 FR 64462, October 18, 2011), which inadvertently used “≤” when it should have used “>”.
§ 250.908(a) | Corrects the word “maximum” to read “minimum”. Consistent with the title of the section, “What are the minimum structural fatigue design requirements”, and the final rulemaking notice of December 27, 2001 (66 FR 66851), the intent of this paragraph (originally in the 2001 rule as § 250.913) was always “minimum”. Use of “minimum” is also in keeping with the statements in § 250.908(a)(2) and (a)(3). Also amends the word “analysis” to read “fatigue analysis.”
§ 250.920(b) | Revises “operational loading, or inadequate deck height your platform” to read “operational loading, inadequate deck height, or”.
§ 250.1000(c)(3), (4), (12), and (13) | Removes obsolete dates from § 250.1000(c)(3)(i) and (iv); provides in § 250.1000(c)(4), (c)(12)(ii), (c)(13)(i), and (c)(13)(ii) a general reference to the “appropriate Department of Transportation (DOT) pipeline official” with responsibility for transfer points instead of referring to a specific DOT office, since that office title has changed several times since the rule was originally published. Rewords for further clarity.
§§ 250.1015(e) and 250.1018(c) | Removes an already past date. An emergency rulemaking (70 FR 61893, October 27, 2005) was codified as a result of Hurricane Katrina and filing fees were suspended until January 3, 2006.
§ 250.1165(b) | Clarifies that approval for enhanced recovery operations will be handled by BSEE and the Bureau of Ocean Energy Management (BOEM). BSEE is responsible for approving enhanced recovery, but under the current regulations, the proposed enhanced recovery request must be accompanied by submission of Form BOEM-0127. The amended language clarifies that the applicant would submit the form to BOEM.
§ 250.1302(a), (c), (d) | To avoid any confusion, revises this section by correcting the agency name to read “BSEE” and by changing the phrase “joint development and production plan” to “Competitive Reservoir Development Program.” Competitive Reservoir Development Programs will continue to be submitted to BSEE (not BOEM), as was the original intent. As a result of the reorganization of BOEM and BSEE (76 FR 64570), BSEE regulations at § 250.1302(a) and (d) were inadvertently changed to refer to `BOEM,' evidently because the phrase `joint development and production plan' was confused with the similarly named development and production plan (DPP) that would be submitted to BOEM. The `joint development and production plan' is not a DPP nor is it related in any way.¹
§ 250.1401 | Removes and reserves this section, since the headings of all the sections are already listed in the Table of Contents.
§§ 250.1455(b)(2) and 250.1463(b)(2) | Revises §§ 250.1455(b)(2) and 250.1463(b)(2) by changing the cross references from “§§ 250.1490 through 250.1497” to “30 CFR part 550, Subpart N.” These changes are necessary because the 30 CFR part 250 sections currently referenced do not apply and are being removed through this rulemaking.
§§ 250.1490 through 250.1497 | Removes §§ 250.1490 through 250.1497 and the two undesignated center headings, “Bonding Requirements”, and “Financial Solvency Requirements.” These former Minerals Management Service provisions do not apply to BSEE. These sections are instead contained in BOEM's regulations at §§ 550.1490 through 550.1497.
§ 250.1609(b) | Corrects “timelapse” to read “time lapse”.
§ 250.1920(b)(5), (e) | Corrects portions of the SEMS final rule published April 5, 2013 (78 FR 20423), which amended the original 2010 SEMS rule (75 FR 63610). Corrects the 2013 amendments to paragraph (b)(5), which inadvertently made that paragraph confusing, to reflect BSEE's original intent. Also reinserts paragraph (e), which was included in § 250.1920 in the 2010 final SEMS rule but which was inadvertently removed in the 2013 amendments to the 2010 rule (see 78 FR 20423, 20442). This insertion remedies that inadvertent removal.
§ 251.15 | Corrects the OMB Control Number from “1010-0141” to “1014-0025”, and changes the information collection title to the title that is submitted to OMB.
§ 252.2 (5) | Corrects “oilspill” to read “oil spill”.
30 CFR part 254 | In various places, throughout this Part, replaces the words “Regional Supervisor” with “Chief, OSPD” or “Chief, Oil Spill Preparedness Division”; also changes “plan” or “response plan” to “OSRP”.
§ 254.2 | Removes obsolete paragraph (c).
§ 254.6 | Adds definitions of “Chief, OSPD” to mean the Chief, BSEE Oil Spill Preparedness Division or designee and of “OSRP” to mean an Oil Spill Response Plan. Also revises the definition of “spill management team” to reflect the revised acronyms.
§ 254.7 | Revises this section to reflect accurate OSPD contacts and addresses.
§ 254.9 | Corrects the OMB Control Number from “1010-0091” to “1014-0007” and revises the “Herndon, VA” address to reflect the new address in “Sterling, VA”.
30 CFR part 256 | Removes various “[Reserved]” citations as well as numerous undesignated center headings that are no longer needed and are confusing since they have no regulatory text.
§ 256.7(j) | Adds cross references to BOEM regulations at Chapter V.
§ 280.25(a)(2) | Replaces the word “our” with the word “the”.
§ 280.28(a) | Inserts the words “Bureau of Ocean Energy Management” before “Regional Director” for clarity.
§ 282.0 | Amends the existing paragraph by: designating it as paragraph “(a)”; correcting the OMB control number from “1010-0081” to “1014-0021”; and adding new paragraph (b) to provide the new address for submitting comments on information collections to BSEE.
§ 282.3 | Corrects “overylying” to read “overlying”.
§ 282.13(d), (e)(2) | Adds the words “to the Bureau of Ocean Energy Management” for clarification; changes the word “shall” to either “will” or “must”. Changes order of sentences for clarity.
§ 282.14(c) | Revises “$10,000” to read “$40,000” in accordance with 43 U.S.C. 1350.
§ 282.27(d)(2) | Adds the word “BSEE” where applicable; changes “60 days” to “90 days” to be consistent with 30 CFR 250.133; changes “10 hours” to “12 hours”.
30 CFR part 290 | Revises the authority citations for Part 290 from “5 U.S.C. 301 et seq.; 43 U.S.C. 1331” to “5 U.S.C. 305; 43 U.S.C. 1334”.
§ 290.4(b)(1) | Provides a correct Web site address for the BSEE Fees for Services page (application fees) for electronic payments.
30 CFR part 291 | Revises “Office of Policy Analysis” to read “Office of Policy and Analysis” throughout this section in six locations.
§ 291.1(a), (e) | Corrects the OMB Control Number from “1010-0172” to “1014-0012”; revises the “Herndon, VA” address to reflect the new address in “Sterling, VA”.
§ 291.107(b)(1) | Revises the Office of Policy and Analysis phone number from “(202)-208-3530)” to “(202) 208-1901)”.
§ 291.108(a) | Provides a correct Web site address for the BSEE Fees for Services page (application fees) for electronic payments.
¹ The “joint development and production plan”/“Competitive Reservoir Development Program” is a reservoir management tool used after the BSEE Regional Supervisor determines a reservoir to be a “competitive reservoir” that requires competing operators to operate in a manner that ensures the reserves are optimally and efficiently produced in accordance with BSEE's conservation mandate (e.g., restricting well production rates and/or reservoir withdrawal rates, limiting the number of new wells that can be drilled).

Procedural Matters

Regulatory Planning and Review (E.O.s 12866 and 13563)

E.O. 12866 provides that the Office of Information and Regulatory Affairs (OIRA) will review all significant rules. OIRA has determined that this final rule is not significant because it will not raise novel legal or policy issues.

E.O. 13563 reaffirms the principles of E.O. 12866 while calling for improvements in the Nation's regulatory system to promote predictability, to reduce uncertainty, and to use the best, most innovative, and least burdensome tools for achieving regulatory ends. The Executive Order (E.O.) directs agencies to consider regulatory approaches that reduce burdens and maintain flexibility and freedom of choice for the public where these approaches are relevant, feasible, and consistent with regulatory objectives. This rulemaking is consistent with the principles of E.O. 13563.

Regulatory Flexibility Act

The Department of the Interior (DOI) certifies that this final rule will not have a significant economic effect on a substantial number of small entities under the Regulatory Flexibility Act (5 U.S.C. 601 et seq.).

Small Business Regulatory Enforcement Fairness Act

The Small Business and Agriculture Regulatory Enforcement Ombudsman and 10 Regional Fairness Boards were established to receive comments from small businesses about Federal agency enforcement actions. The Ombudsman will annually evaluate the enforcement activities and rate each agency's responsiveness to small business. If you wish to comment on the actions of BSEE, call 1-888-734-3247. You may comment to the Small Business Administration without fear of retaliation. Allegations of discrimination/retaliation filed with the Small Business Administration will be investigated for appropriate action.

This final rule is not a major rule under the Small Business Regulatory Enforcement Fairness Act (5 U.S.C. 804(2)). This rule:

a. Will not have an annual effect on the economy of $100 million or more.

b. Will not cause a major increase in costs or prices for consumers, individual industries, Federal, State, or local government agencies, or geographic regions.

c. Will not have significant adverse effects on competition, employment, investment, productivity, innovation, or the ability of U.S.-based enterprises to compete with foreign-based enterprises. The requirements will apply to all entities operating on the OCS.

Unfunded Mandates Reform Act of 1995

This final rule will not impose an unfunded mandate on State, local, or tribal governments or the private sector of more than $100 million per year. The final rule will not have a significant or unique effect on State, local, or tribal governments or the private sector. A statement containing the information required by the Unfunded Mandates Reform Act (2 U.S.C. 1501 et seq.) is not required.

Takings Implication Assessment (E.O. 12630)

Under the criteria in E.O. 12630, this final rule does not have significant takings implications. The rulemaking is not a governmental action capable of interfering with constitutionally protected property rights. A Takings Implication Assessment is not required.

Federalism (E.O. 13132)

Under the criteria in E.O. 13132, this final rule does not have federalism implications. This final rule will not substantially and directly affect the relationship between the Federal and State governments. To the extent that State and local governments have a role in OCS activities, this final rule will not affect that role. A Federalism Assessment is not required.

Civil Justice Reform (E.O. 12988)

This final rule complies with the requirements of E.O. 12988. Specifically, this rule:

(a) Meets the criteria of section 3(a) requiring that all regulations be reviewed to eliminate errors and ambiguity and be written to minimize litigation; and

(b) Meets the criteria of section 3(b)(2) requiring that all regulations be written in clear language and contain clear legal standards.

Consultation and Coordination With Indian Tribal Governments (E.O. 13175)

Under the criteria in E.O. 13175 and DOI's Policy on Consultation with Indian Tribes (Secretarial Order 3317, Amendment 2, December 31, 2013), we evaluated this final rule and determined that it has no substantial direct effects on federally recognized Indian tribes.

Paperwork Reduction Act (PRA) of 1995

This final rule does not contain new information collection requirements, and a submission under the PRA is not required. Therefore, an information collection request is not being submitted to OMB for review and approval under the PRA (44 U.S.C. 3501 et seq.).

National Environmental Policy Act of 1969

This final rule does not constitute a major Federal action significantly affecting the quality of the human environment. BSEE has evaluated this rule under the criteria of the National Environmental Policy Act (NEPA) and the Department's regulations implementing NEPA. This rule meets the criteria set forth at 43 CFR 46.210(i) for a Departmental Categorical Exclusion in that this rule is “of an administrative, financial, legal, technical, or procedural nature. . . .” Further, BSEE has analyzed this rule to determine if it meets any of the extraordinary circumstances that would require an environmental assessment or an environmental impact statement as set forth in 43 CFR 46.215 and has concluded that this rule does not meet any of the criteria for extraordinary circumstances.

Data Quality Act

In developing this final rule, we did not conduct or use a study, experiment, or survey requiring peer review under the Data Quality Act (Pub. L. 106-554, app. C § 515, 114 Stat. 2763, 2763A-153-154).

Effects on the Nation's Energy Supply (E.O. 13211)

This final rule is not a significant energy action under the definition in E.O. 13211. A Statement of Energy Effects is not required.

List of Subjects

30 CFR Part 203

Indians—lands, Oil and gas exploration, Outer Continental Shelf, Sulphur.

30 CFR Part 250

Administrative practice and procedure, Oil and gas and sulphur exploration, Outer Continental Shelf, Reporting and recordkeeping requirements.

30 CFR Part 251

Freedom of information, Oil and gas exploration, Outer Continental Shelf, Reporting and recordkeeping requirements, Research.

30 CFR Part 252

Freedom of information, Intergovernmental relations, Oil and gas exploration, Outer Continental Shelf, Reporting and recordkeeping requirements.

30 CFR Part 254

Intergovernmental relations, Oil and gas exploration, Oil pollution, Outer Continental Shelf, Pipelines, Reporting and recordkeeping requirements.

30 CFR Part 256

Administrative practice and procedure, Environmental protection, Government contracts, Intergovernmental relations, Oil and gas exploration, Outer Continental Shelf, Reporting and recordkeeping requirements, Surety bonds.

30 CFR Part 280

Outer Continental Shelf, Reporting and recordkeeping requirements, Research.

30 CFR Part 282

Administrative practice and procedure, Environmental protection, Government contracts, Intergovernmental relations, Mineral royalties, Outer Continental Shelf, Penalties, Reporting and recordkeeping requirements, Surety bonds.

30 CFR Part 290

Administrative practice and procedure.

30 CFR Part 291

Administrative practice and procedure.

Dated: May 16, 2016.
Amanda C. Leiter,
Acting Assistant Secretary—Land and Minerals Management.

For the reasons stated in the preamble, the Bureau of Safety and Environmental Enforcement (BSEE) amends 30 CFR parts 203, 250, 251, 252, 254, 256, 280, 282, 290, and 291 as follows:

PART 203—RELIEF OR REDUCTION IN ROYALTY RATES

1. The authority citation for part 203 continues to read as follows:

Authority: 25 U.S.C. 396 et seq.; 25 U.S.C. 396a et seq.; 25 U.S.C. 2101 et seq.; 30 U.S.C. 181 et seq.; 30 U.S.C. 351 et seq.; 30 U.S.C. 1001 et seq.; 30 U.S.C. 1701 et seq.; 31 U.S.C. 9701; 42 U.S.C. 15903-15906; 43 U.S.C. 1301 et seq.; 43 U.S.C. 1331 et seq.; 43 U.S.C. 1334.; and 43 U.S.C. 1801 et seq.

2. In part 203, revise all references to “381 Elden Street, Herndon, VA 20170” to read “45600 Woodland Road, Sterling, VA 20166”.

§ 203.3 [Amended]

3. Revise § 203.3(b) to read as follows:

§ 203.3 Do I have to pay a fee to request royalty relief?

* * * * *

(b) You must file all payments electronically through the Fees for Services page on the BSEE Web site at http://www.bsee.gov, and you must include a copy of the Pay.gov confirmation receipt page with your application or assessment.

§ 203.5 [Amended]

4. Amend § 203.5(a) by removing “1010-0071” and adding in its place “1014-0005”.

PART 250—OIL AND GAS AND SULPHUR OPERATIONS IN THE OUTER CONTINENTAL SHELF

5. The authority citation for part 250 is revised to read as follows:

Authority: 31 U.S.C. 9701, 43 U.S.C. 1334.

6. In Part 250, revise all references to“381 Elden Street, Herndon, VA 20170” to read “45600 Woodland Road, Sterling, VA 20166”.

§ 250.102 [Amended]

7. Amend § 250.102(b) by revising the table, to read as follows:

§ 250.102 What does this part do?

* * * * *

(b) * * *

For information about . . . | Refer to . . .
(1) Applications for permit to drill, | 30 CFR part 250, subpart D.
(2) Development and Production Plans (DPP), | 30 CFR part 550, subpart B.
(3) Downhole commingling, | 30 CFR part 250, subpart K.
(4) Exploration Plans (EP), | 30 CFR part 550, subpart B.
(5) Flaring, | 30 CFR part 250, subpart K.
(6) Gas measurement, | 30 CFR part 250, subpart L.
(7) Off-lease geological and geophysical permits, | 30 CFR part 551.
(8) Oil spill financial responsibility coverage, | 30 CFR part 553.
(9) Oil and gas production safety systems, | 30 CFR part 250, subpart H.
(10) Oil spill response plans, | 30 CFR part 254.
(11) Oil and gas well-completion operations, | 30 CFR part 250, subpart E.
(12) Oil and gas well-workover operations, | 30 CFR part 250, subpart F.
(13) Decommissioning Activities, | 30 CFR part 250, subpart Q.
(14) Platforms and structures, | 30 CFR part 250, subpart I.
(15) Pipelines and Pipeline Rights-of-Way, | 30 CFR part 250, subpart J and 30 CFR part 550, subpart J.
(16) Sulphur operations, | 30 CFR part 250, subpart P.
(17) Training, | 30 CFR part 250, subpart O.
(18) Unitization, | 30 CFR part 250, subpart M.
(19) Safety and Environmental Management Systems (SEMS), | 30 CFR part 250, subpart S.

§ 250.114 [Amended]

8. Amend § 250.114(a) by adding, after the phrase “Division 2”, the parenthetical phrase “(as incorporated by reference in § 250.198)”.

9. Add an undesignated center heading, before § 250.118 to read “GAS STORAGE OR INJECTION”.

10. Revise § 250.126 to read as follows:

§ 250.126 Electronic payment instructions.

(a) You must file all payments electronically through the Fees for Services page on the BSEE Web site at http://www.bsee.gov. This includes, but is not limited to, all OCS applications, permits, or any filing fees. You must include a copy of the Pay.gov confirmation receipt page with your application, permit, or filing fee.

(b) If you submitted an application or permit through eWell, you must use the interactive payment feature in that system, which directs you through Pay.gov to make a payment. It is recommended that you keep a copy of your payment confirmation receipt in the event that any questions arise regarding your transaction.

§ 250.193 [Amended]

11. Amend § 250.193(e)(2)(i)(C) by removing “Herndon, VA” and adding in its place “Washington, DC”.

§ 250.198 [Amended]

12. Amend § 250.198, by revising paragraphs (d), (e) introductory text, (g) introductory text, (i) introductory text, (j) introductory text, (k) introductory text, and (m) introductory text to read as follows:

§ 250.198 Documents incorporated by reference.

* * * * *

(d) You may inspect these documents at the Bureau of Safety and Environmental Enforcement, 45600 Woodland Rd, Sterling, VA 20166; phone: 1-844-259-4779; or at the National Archives and Records Administration (NARA). For information on the availability of this material at NARA, call 202-741-6030, or go to: http://www.archives.gov/federal_register/code_of_federal_regulations/ibr_locations.html.

* * * * *

(e) American Concrete Institute (ACI), ACI Standards, 38800 Country Club Drive, Farmington Hills, MI 48331-3439: http://www.concrete.org; phone: 248-848-3700:

* * * * *

(g) American National Standards Institute (ANSI), ANSI/ASME Codes, http://www.webstore.ansi.org; phone: 212-642-4900; and/or American Society of Mechanical Engineers (ASME), 22 Law Drive, P.O. Box 2900, Fairfield, NJ 07007-2900; http://www.asme.org; phone: 1-800-843-2763:

* * * * *

(i) American Society for Testing and Materials (ASTM), ASTM Standards, 100 Bar Harbor Drive, P.O. Box C700, West Conshohocken, PA 19428-2959; http://www.astm.org; phone: 1-877-909-2786:

* * * * *

(j) American Welding Society (AWS), AWS Codes, 8669 NW 36 Street, #130, Miami, FL 33126; http://www.aws.org; phone: 800-443-9353:

* * * * *

(k) National Association of Corrosion Engineers (NACE) International, NACE Standards, Park Ten Place, Houston, TX 77084; http://www.nace.org; phone: 281-228-6200:

* * * * *

(m) International Organization for Standardization (ISO), 1, ch. de la Voie-Creuse, CP 56, CH-1211, Geneva 20, Switzerland; www.iso.org; phone: 41-22-749-01-11:

* * * * *

§ 250.405 [Amended]

13. Amend § 250.405, in the introductory text, by removing the words “air take” and adding in their place “air intake”.

§ 250.610 [Amended]

14. Revise § 250.610 to read as follows:

§ 250.610 Diesel engine air intakes.

You must equip diesel engine air intakes with a device to shut down the diesel engine in the event of runaway. Diesel engines that are continuously attended must be equipped with remotely operated, manual, or automatic shutdown devices. Diesel engines that are not continuously attended must be equipped with automatic shutdown devices.

§ 250.611 [Amended]

15. Revise § 250.611 to read as follows:

§ 250.611 Traveling-block safety device.

You must equip all units being used for well-workover operations that have both a traveling block and a crown block with a safety device that is designed to prevent the traveling block from striking the crown block. You must check the device for proper operation weekly and after each drill-line slipping operation. You must enter the results of the operational check in the operations log.

§ 250.713 [Amended]

16. Amend § 250.713(b) by adding after the phrase “or DOCD submitted to BOEM,” the phrase “for that well location and conditions,”.

§ 250.803 [Amended]

17. Amend § 250.803(b)(1) introductory text, by adding, after the phrase “(ASME) Boiler and Pressure Vessel Code”, the parenthetical phrase “(as incorporated by reference in § 250.198)”.

§ 250.806 [Amended]

18. Amend § 250.806(c) by removing “MS-4020” and adding in its place “VAE-OORP”, and by removing “381 Elden Street, Herndon, Virginia 20170-4817” and adding in its place “45600 Woodland Road, Sterling, VA 20166”.

§ 250.901 [Amended]

19. Amend § 250.901(a)(24) by adding, after the phrase “Offshore Structures Associated with Petroleum Production”, the parenthetical phrase “(as incorporated by reference in § 250.198)”.

§ 250.904 [Amended]

20. Amend § 250.904(b) by removing “≤”and adding in its place “>”.

§ 250.908 [Amended]

21. Amend § 250.908(a), in the table under “Then . . .”, by removing the word “analysis” and adding in its place “fatigue analysis” in paragraph (a)(1), and by removing the word “maximum” wherever it appears and adding in its place “minimum”.

§ 250.920 [Amended]

22. Amend § 250.920(b) by removing “operational loading, or inadequate deck height your platform” and adding in its place “operational loading, inadequate deck height, or”.

23. Amend § 250.1000, paragraphs (c)(3)(i) and (iv), (c)(4), (c)(12)(ii), and (c)(13)(i) and (ii), to read as follows:

§ 250.1000 General requirements.

* * * * *

(c) * * *

(3) * * *

(i) Each producing operator must, if practical, durably mark all of its above-water transfer points as of the date a pipeline begins service.

* * * * *

(iv) If adjoining producing and transporting operators cannot agree on a transfer point, the BSEE Regional Supervisor and the appropriate Department of Transportation (DOT) pipeline official may jointly determine the transfer point.

(4) The transfer point serves as a regulatory boundary. An operator may request that the BSEE Regional Supervisor grant an exception to this requirement for an individual facility or area. The Regional Supervisor, in consultation with the appropriate DOT pipeline official and affected parties, may grant the request.

* * * * *

(12) * * *

(ii) The Regional Supervisor will decide, on a case-by-case basis, whether to grant the operator's request. In considering each petition, the Regional Supervisor will consult with the appropriate DOT pipeline official.

(13) * * *

(i) The operator's request must be in the form of a written petition to the appropriate DOT pipeline official and the BSEE Regional Supervisor.

(ii) The BSEE Regional Supervisor and the appropriate DOT pipeline official will decide how to act on this petition.

* * * * *

§ 250.1015 [Amended]

24. Amend § 250.1015 by removing paragraph (e).

§ 250.1018 [Amended]

25. Amend § 250.1018 by removing paragraph (c).

26. Amend § 250.1165 by removing the last sentence of paragraph (b) and adding two sentences in its place to read as follows:

§ 250.1165 What must I do for enhanced recovery operations?

* * * * *

(b) * * * The proposed plan must include, for each project reservoir, a geologic and engineering overview and any additional information required by the BSEE Regional Supervisor. You also must submit Form BOEM-0127 to BOEM along with the supporting data specified in BOEM regulations, 30 CFR part 550, subpart K.

* * * * *

27. Amend § 250.1302 by revising the first sentence of paragraph (a), and paragraphs (c) and (d), to read as follows:

§ 250.1302 What if I have a competitive reservoir on a lease?

(a) The Regional Supervisor may require you to conduct development and production operations in a competitive reservoir under either a joint Competitive Reservoir Development Program submitted to BSEE or a unitization agreement. * * *

* * * * *

(c) If you conduct drilling or production operations in a reservoir determined competitive by the BSEE Regional Supervisor, you and the other affected lessees must submit for approval a joint Competitive Reservoir Development Program. You must submit the joint Competitive Reservoir Development Program within 90 days after the Regional Supervisor makes a final determination that the reservoir is competitive. The joint Competitive Reservoir Development Program must provide for the development and/or production of the reservoir. You may submit supplemental Competitive Reservoir Development Programs for the Regional Supervisor's approval.

(d) If you and the other affected lessees cannot reach an agreement on a joint Competitive Reservoir Development Program, submitted to BSEE within the approved period of time, each lessee must submit a separate Competitive Reservoir Development Program to the Regional Supervisor. The Regional Supervisor will hold a hearing to resolve differences in the separate Competitive Reservoir Development Programs. If the differences in the separate programs are not resolved at the hearing and the Regional Supervisor determines that unitization is necessary under § 250.1301(b), BSEE will initiate unitization under § 250.1304.

§ 250.1401 [Removed and Reserved]

28. Remove and reserve § 250.1401.

29. Amend § 250.1455 by revising paragraph (b)(2) to read as follows:

§ 250.1455 Does my request for a hearing on the record affect the penalties?

* * * * *

(b) * * *

(2) To stay the accrual of penalties, you must post a bond or other surety instrument, or demonstrate financial solvency, using the standards and requirements as prescribed in BOEM's regulations, 30 CFR part 550, subpart N. The posted amount must cover the unpaid principal and interest due for the Notice of Noncompliance, plus the amount of any penalties accrued before the date a stay becomes effective.

* * * * *

30. Amend § 250.1463 by revising paragraph (b)(2) to read as follows:

§ 250.1463 Does my request for a hearing on the record affect the penalties?

* * * * *

(b) * * *

(2) To stay the accrual of penalties, you must post a bond or other surety instrument, or demonstrate financial solvency, using the standards and requirements as prescribed in BOEM's regulations, 30 CFR part 550, subpart N. The posted amount must cover the unpaid principal and interest due for the Notice of Noncompliance, plus the amount of any penalties accrued before the date a stay becomes effective.

* * * * *

31. Remove the undesignated heading, directly above § 250.1490, “BONDING REQUIREMENTS”.

§§ 250.1490 and 250.1491 [Removed]

32. Remove §§ 250.1490 and 250.1491.

33. Remove the undesignated heading, directly above § 250.1495, “FINANCIAL SOLVENCY REQUIREMENTS”.

§§ 250.1495, 250.1496, and 250.1497 [Removed]

34. Remove §§ 250.1495, 250.1496, and 250.1497.

§ 250.1609 [Amended]

35. Amend § 250.1609(b) by removing “timelapse” and adding in its place “time lapse”.

36. Amend § 250.1920 by revising paragraph (b)(5) and by adding paragraph (e) to read as follows:

§ 250.1920 What are the auditing requirements for my SEMS program?

* * * * *

(b) * * *

(5) Section 12.5 Audit Frequency. You must have your SEMS program audited by an ASP within 2 years after initial implementation and every 3 years thereafter. The 3-year auditing cycle begins on the start date of each comprehensive audit (including the initial implementation audit) and ends on the start date of your next comprehensive audit.

* * * * *

(e) BSEE may verify that you undertook the corrective actions and that these actions effectively address the audit findings.

PART 251—GEOLOGICAL AND GEOPHYSICAL (G&G) EXPLORATIONS OF THE OUTER CONTINENTAL SHELF

37. The authority citation for part 251 continues to read as follows:

Authority: 31 U.S.C. 9701, 43 U.S.C. 1334.

§ 251.15 [Amended]

38. Revise § 251.15 to read as follows:

§ 251.15 Authority for information collection.

The Office of Management and Budget has approved the information collection requirements in this part under 44 U.S.C. 3501 et seq. and assigned OMB control number 1014-0025 as it pertains to Application for Permit to Drill (APD, Form BSEE-0123), and Supplemental APD Information Sheet (Form BSEE-0123S). The title of this information collection is “30 CFR Part 250, Application for Permit to Drill (APD, Revised APD) Supplemental APD Information Sheet, and all supporting documents.”

PART 252—OUTER CONTINENTAL SHELF (OCS) OIL AND GAS INFORMATION PROGRAM

39. The authority citation for part 252 continues to read as follows:

Authority: OCS Lands Act, 43 U.S.C. 1331 et seq., as amended, 92 Stat. 629; Freedom of Information Act, 5 U.S.C. 552; § 252.3 also issued under Pub. L. 99-190 making continuing appropriations for Fiscal Year 1986, and for other purposes.

§ 252.2 [Amended]

40. Amend § 252.2, in paragraph (5) of the definition of Affected State, by removing “oilspill” and adding in its place “oil spill”.

PART 254—OIL-SPILL RESPONSE REQUIREMENTS FOR FACILITIES LOCATED SEAWARD OF THE COAST LINE

41. The authority citation for part 254 continues to read as follows:

Authority: 33 U.S.C. 1321.

§ 254.1 [Amended]

42. Amend § 254.1 by revising the section heading and paragraphs (a), (b), (d), and (e) to read as follows:

§ 254.1 Who must submit an oil spill response plan (OSRP)?

(a) If you are the owner or operator of an oil handling, storage, or transportation facility, and it is located seaward of the coast line, you must submit an oil spill response plan (OSRP) to BSEE for approval. Your OSRP must demonstrate that you can respond quickly and effectively whenever oil is discharged from your facility. Refer to § 254.6 for the definitions of oil, facility, and coast line if you have any doubts about whether to submit a plan.

(b) You must maintain a current OSRP for an abandoned facility until you physically remove or dismantle the facility or until the Chief, Oil Spill Preparedness Division (OSPD) notifies you in writing that a plan is no longer required.

* * * * *

(d) If you are in doubt as to whether you must submit a plan for an offshore facility or pipeline, you should check with the Chief, OSPD.

(e) If your facility is located landward of the coast line, but you believe your facility is sufficiently similar to OCS facilities that it should be regulated by BSEE, you may contact the Chief, OSPD, offer to accept BSEE jurisdiction over your facility, and request that BSEE seek from the agency with jurisdiction over your facility a relinquishment of that jurisdiction.

43. Revise § 254.2 to read as follows:

§ 254.2 When must I submit an OSRP?

(a) You must submit, and BSEE must approve, an OSRP that covers each facility located seaward of the coast line before you may use that facility. To continue operations, you must operate the facility in compliance with the OSRP.

(b) Despite the provisions of paragraph (a) of this section, you may operate your facility after you submit your OSRP while BSEE reviews it for approval. To operate a facility without an approved OSRP, you must certify in writing to the Chief, OSPD that you have the capability to respond, to the maximum extent practicable, to a worst case discharge or a substantial threat of such a discharge. The certification must show that you have ensured by contract, or other means approved by the Chief, OSPD, the availability of private personnel and equipment necessary to respond to the discharge. Verification from the organization(s) providing the personnel and equipment must accompany the certification. BSEE will not allow you to operate a facility for more than 2 years without an approved OSRP.

44. Revise § 254.3 to read as follows:

§ 254.3 May I cover more than one facility in my OSRP?

(a) Your OSRP may be for a single lease or facility or a group of leases or facilities. All the leases or facilities in your plan must have the same owner or operator (including affiliates) and must be located in the same BSEE Region (see definition of Regional OSRP in § 254.6).

(b) Regional OSRPs must address all the elements required for an OSRP in subpart B, or subpart D of this part, as appropriate.

(c) When developing a Regional OSRP, you may group leases or facilities subject to the approval of the Chief, OSPD, for the purposes of:

(1) Calculating response times;

(2) Determining quantities of response equipment;

(3) Conducting oil-spill trajectory analyses;

(4) Determining worst case discharge scenarios; and

(5) Identifying areas of special economic and environmental importance that may be impacted and the strategies for their protection.

(d) The Chief, OSPD, may specify how to address the elements of a Regional OSRP. The Chief, OSPD, also may require that Regional OSRPs contain additional information if necessary for compliance with appropriate laws and regulations.

45. Revise § 254.4 to read as follows:

§ 254.4 May I reference other documents in my OSRP?

You may reference information contained in other readily accessible documents in your OSRP. Examples of documents that you may reference are the National Contingency Plan (NCP), Area Contingency Plan (ACP), BSEE or BOEM environmental documents, and Oil Spill Removal Organization (OSRO) documents that are readily accessible to the Chief, OSPD. You must ensure that the Chief, OSPD, possesses or is provided with copies of all OSRO documents you reference. You should contact the Chief, OSPD, if you want to know whether a reference is acceptable.

46. Amend § 254.5 by revising paragraphs (a), (b), and (d) to read as follows:

§ 254.5 General OSRP requirements.

(a) The OSRP must provide for response to an oil spill from the facility. You must immediately carry out the provisions of the OSRP whenever there is a release of oil from the facility. You must also carry out the training, equipment testing, and periodic drills described in the OSRP, and these measures must be sufficient to ensure the safety of the facility and to mitigate or prevent a discharge or a substantial threat of a discharge.

(b) The OSRP must be consistent with the National Contingency Plan and the appropriate Area Contingency Plan(s).

* * * * *

(d) In addition to the requirements listed in this part, you must provide any other information the Chief, OSPD, requires for compliance with appropriate laws and regulations.

47. Amend § 254.6 by adding in alphabetical order the definitions for “Chief, OSPD” and “OSRP”, and by revising the definition of “Spill management team”, to read as follows:

§ 254.6 Definitions.

* * * * *

Chief, OSPD means the Chief, BSEE Oil Spill Preparedness Division or designee.

* * * * *

OSRP means an Oil Spill Response Plan.

* * * * *

Spill management team means the trained persons identified in an OSRP who staff the organizational structure to manage spill response.

* * * * *

48. Revise § 254.7 to read as follows:

§ 254.7 How do I submit my OSRP to the BSEE?

You must submit the number of copies of your OSRP that the appropriate BSEE regional office requires. If you prefer to use improved information technology such as electronic filing to submit your plan, ask the Chief, OSPD, for further guidance.

(a) Send OSRPs for facilities located seaward of the coast line of Alaska to: Bureau of Safety and Environmental Enforcement, Oil Spill Preparedness Division, Attention: Senior Analyst, 3801 Centerpoint Drive, Suite #500, Anchorage, AK 99503-5823.

(b) Send OSRPs for facilities in the Gulf of Mexico or Atlantic Ocean to: Bureau of Safety and Environmental Enforcement, Oil Spill Preparedness Division, Attention: GOM Section Supervisor, 1201 Elmwood Park Boulevard, New Orleans, LA 70123-2394.

(c) Send OSRPs for facilities in the Pacific Ocean (except seaward of the coast line of Alaska) to: Bureau of Safety and Environmental Enforcement, Oil Spill Preparedness Division, Attention: Senior Analyst, 760 Paseo Camarillo, Suite 201, Camarillo, CA 93010-6002.

§ 254.9 [Amended]

49. Amend § 254.9 in paragraph (a), by removing “1010-0091” and adding in its place “1014-0007” and in paragraph (d), by removing “381 Elden Street, Herndon, VA 20170” and adding in its place “45600 Woodland Road, Sterling, VA 20166”.

§ 254.20 [Amended]

50. Amend § 254.20 by removing “spill-response plans” and adding in its place “OSRPs”.

51. Amend 254.21 by revising the section heading and paragraphs (a), (b) introductory text, and (b)(1) to read as follows:

§ 254.21 How must I format my OSRP?

(a) You must divide your OSRP for OCS facilities into the sections specified in paragraph (b) of this section and explained in the other sections of this subpart. The OSRP must have an easily found marker identifying each section. You may use an alternate format if you include a cross reference table to identify the location of required sections. You may use alternate contents if you can demonstrate to the Chief, OSPD that they provide for equal or greater levels of preparedness.

(b) Your OSRP must include:

(1) Introduction and OSRP contents.

* * * * *

§ 254.22 [Amended]

52. Amend § 254.22, in the section heading, introductory text, and paragraphs (a), (c), and (d), by removing “plan” and adding in its place “OSRP”.

§ 254.23 [Amended]

53. Amend § 254.23, in the introductory text, by removing “response plan” and adding in its place “OSRP”.

§ 254.25 [Amended]

54. Amend § 254.25, in the first sentence, by removing “plan” and adding in its place “OSRP”.

55. Revise § 254.30 to read as follows:

§ 254.30 When must I revise my OSRP?

(a) You must review your OSRP at least every 2 years and submit all resulting modifications to the Chief, OSPD. If this review does not result in modifications, you must inform the Chief, OSPD, in writing that there are no changes.

(b) You must submit revisions to your OSRP for approval within 15 days whenever:

(1) A change occurs which significantly reduces your response capabilities;

(2) A significant change occurs in the worst case discharge scenario or in the type of oil being handled, stored, or transported at the facility;

(3) There is a change in the name(s) or capabilities of the oil spill removal organizations cited in the OSRP; or

(4) There is a significant change to the Area Contingency Plan(s).

(c) The Chief, OSPD, may require that you resubmit your OSRP if the OSRP has become outdated or if numerous revisions have made its use difficult.

(d) The Chief, OSPD, will periodically review the equipment inventories of OSRO's to ensure that sufficient spill removal equipment is available to meet the cumulative needs of the owners and operators who cite these organizations in their OSRPs.

(e) The Chief, OSPD, may require you to revise your OSRP if significant inadequacies are indicated by:

(1) Periodic reviews (described in paragraph (d) of this section);

(2) Information obtained during drills or actual spill responses; or

(3) Other relevant information the Chief, OSPD, obtained.

§ 254.41 [Amended]

56. Amend § 254.41(d) by removing “response plan” and adding in its place “OSRP”.

57. Amend § 254.42 as follows:

a. Revise paragraphs (a), (b)(2), and (e).

b. Amend paragraphs (f) and (h), by removing “Regional Supervisor” and adding in its place “Chief, OSPD,” and amend paragraph (i) by removing “Regional Supervisor” and adding in its place “Chief, OSPD.”.

§ 254.42 Exercises for your response personnel and equipment.

(a) You must exercise your entire OSRP at least once every 3 years (triennial exercise). You may satisfy this requirement by conducting separate exercises for individual parts of the OSRP over the 3-year period; you do not have to exercise your entire OSRP at one time.

(b) * * *

(2) An annual deployment exercise of response equipment identified in your OSRP that is staged at onshore locations. You must deploy and operate each type of equipment in each triennial period. However, it is not necessary to deploy and operate each individual piece of equipment.

* * * * *

(e) All records of spill-response exercises must be maintained for the complete 3-year exercise cycle. Records should be maintained at the facility or at a corporate location designated in the OSRP. Records showing that OSROs and oil spill removal cooperatives have deployed each type of equipment also must be maintained for the 3-year cycle.

* * * * *

§ 254.43 [Amended]

58. Amend § 254.43(a) by removing “response plan” and adding in its place “OSRP”.

§ 254.44 [Amended]

59. Amend § 254.44(a) by removing “response plan” and adding in its place “OSRP”.

§ 254.45 [Amended]

60. Amend § 254.45(a) by removing “response plan” and adding in its place “OSRP”.

§ 254.46 [Amended]

61. Amend § 254.46(b)(2) by removing “Regional Supervisor” and adding in its place “Chief, OSPD”.

§ 254.47 [Amended]

62. Amend § 254.47(d) by removing “Regional Supervisor” and adding in its place “Chief, OSPD,”.

§ 254.51 [Amended]

63. Amend § 254.51, in the section heading by removing “response plan” and adding in its place “OSRP”, and in the text by removing “this plan” and adding in its place “this OSRP”.

§ 254.52 [Amended]

64. Amend § 254.52, in the section heading by removing “response plan” and adding in its place “OSRP”, and in the text by removing “plan” and adding in its place “OSRP”.

§ 254.53 [Amended]

65. Amend § 254.53, in the section heading by removing “response plan” and adding in its place “OSRP”, and in paragraph (a) introductory text by removing “plan” and adding in its place “OSRP”.

§ 254.54 [Amended]

66. Amend § 254.54, by removing “response plan” and adding in its place “OSRP” and by removing “Regional Supervisor” and adding in its place “Chief, OSPD,”.

PART 256—LEASING OF SULPHUR OR OIL AND GAS IN THE OUTER CONTINENTAL SHELF

67. The authority citation for part 256 continues to read as follows:

Authority: 31 U.S.C. 9701, 42 U.S.C. 6213, 43 U.S.C. 1334, Pub. L. 109-432.

§ 256.0 and §§ 256.2 through 256.5 [Removed]

68. Remove reserved § 256.0 and reserved §§ 256.2 through 256.5.

69. Amend § 256.7 by adding paragraph (j) to read as follows:

§ 256.7 Cross references.

* * * * *

(j) For Bureau of Ocean Energy Management (BOEM) regulations, see 30 CFR chapter V.

§§ 256.8 through 256.12 [Removed]

70. Remove reserved §§ 256.8 through 256.12.

Subparts B Through I [Removed]

71. Remove reserved subparts B Through I.

Subparts J Through L [Redesignated as Subparts B through D]

72. Redesignate subparts J through L as subparts B through D respectively.

§§ 256.62 through 256.68, § 256.76, and § 256.80 [Removed]

73. Remove reserved §§ 256.62 through 256.68, § 256.76, and § 256.80.

Subparts M and N [Removed]

74. Remove reserved subparts M and N.

PART 280—PROSPECTING FOR MINERALS OTHER THAN OIL, GAS, AND SULPHUR ON THE OUTER CONTINENTAL SHELF

75. The authority citation for part 280 continues to read as follows:

Authority: 43 U.S.C. 1334.

§ 280.25 [Amended]

76. Amend § 280.25, paragraph (a)(2), by removing the word “our” and adding in its place “the”.

§ 280.28 [Amended]

77. Amend § 280.28, paragraph (a), by adding “Bureau of Ocean Energy Management” before “Regional Director”.

PART 282—OPERATIONS IN THE OUTER CONTINENTAL SHELF FOR MINERALS OTHER THAN OIL, GAS, AND SULPHUR

78. The authority citation for part 282 continues to read as follows:

Authority: 43 U.S.C. 1334.

79. Amend § 282.0 by designating the existing paragraph as paragraph (a), by removing in that paragraph the number “1010-0081” and adding in its place “1014-0021”, and by adding new paragraph (b) to read as follows:

§ 282.0 Authority for information collection.

* * * * *

(b) Send comments regarding any aspect of the collection of information under this part, including suggestions for reducing the burden, to: Information Collection Clearance Officer, Bureau of Safety and Environmental Enforcement, 45600 Woodland Road, Sterling, VA 20166.

§ 282.3 [Amended]

80. Amend § 282.3, in the definition of Geological sample, by removing “overylying” and adding in its place “overlying”.

81. Amend § 282.13 by revising paragraphs (d) and (e)(2) to read as follows:

§ 282.13 Suspension of production or other operations.

* * * * *

(d) The Director may, at any time within the period prescribed for a suspension or temporary prohibition issued pursuant to paragraph (b)(2) of this section, require the lessee to submit a Delineation, Testing, or Mining Plan to the Bureau of Ocean Energy Management for approval in accordance with the requirements for the approval of such plans in part 582 of this title.

(e) * * *

(2) When the Director determines that measures are necessary, on the basis of the results of the studies conducted in accordance with paragraph (e)(1) of this section and other information available to and identified by the Director, the lessee will be required to take appropriate measures to mitigate, avoid, or minimize the damage or potential damage on which the suspension or temporary prohibition is based. In choosing between alternative mitigation measures, the Director will balance the cost of the required measures against the reduction or potential reduction in damage or threat of damage or harm to life (including fish and other aquatic life), to property, to any mineral deposits (in areas leased or not leased), to the National security or defense, or to the marine, coastal, or human environment. When deemed appropriate by the Director, the lessee must submit to the Bureau of Ocean Energy Management a revised Delineation, Testing, or Mining Plan that incorporates the mitigation measures required by the Director.

* * * * *

§ 282.14 [Amended]

82. Amend § 282.14(c) by revising “$10,000” to read “$40,000”.

§ 282.27 [Amended]

83. Revise § 282.27(d)(2) to read as follows:

§ 282.27 Conduct of operations.

* * * * *

(d) * * *

(2) A lessee shall, on request by the Director, furnish food, quarters, and transportation for BSEE representatives to inspect its facilities. Upon request, you will be reimbursed by BSEE for the actual costs that you incur as a result of providing transportation to BSEE representatives. In addition, you will be reimbursed for the actual costs that you incur for providing food and quarters for a BSEE representative's stay of more than 12 hours. You must submit an invoice for reimbursement within 90 days of the inspection.

* * * * *

PART 290—APPEAL PROCEDURES

84. Revise the authority citation for part 290 to read as follows:

Authority: 5 U.S.C. 305; 43 U.S.C. 1334.

85. Revise § 290.4(b)(1) to read as follows:

§ 290.4 How do I file an appeal?

* * * * *

(b) * * *

(1) You must pay electronically through the Fees for Services page on the BSEE Web site at http://www.bsee.gov, and you must include a copy of the Pay.gov confirmation receipt page with your Notice of Appeal.

* * * * *

PART 291—OPEN AND NONDISCRIMINATORY ACCESS TO OIL AND GAS PIPELINES UNDER THE OUTER CONTINENTAL SHELF LANDS ACT

86. The authority citation for part 291 continues to read as follows:

Authority: 31 U.S.C. 9701, 43 U.S.C. 1334.

87. Amend part 291, in §§ 291.103 introductory text, 291.106(a), 291.107(a) and (b)(1), and 291.109(a)(1) and (b), by revising “Office of Policy Analysis” to read “Office of Policy and Analysis”.

§ 291.1 [Amended]

88. Amend § 291.1 in paragraph (a), by removing “1010-0172” and adding in its place “1014-0012” and in paragraph (e), by removing “381 Elden Street, Herndon, VA 20170” and adding in its place “45600 Woodland Road, Sterling, VA 20166”.

§ 291.107 [Amended]

89. Amend § 291.107, paragraph (b)(1), by removing “(202)-208-3530);” and adding in its place “(202) 208-1901);”.

90. Amend § 291.108 by revising paragraph (a) to read as follows:

§ 291.108 How do I pay the processing fee?

(a) You must pay the processing fee electronically through the Fees for Services page on the BSEE Web site at http://www.bsee.gov, and you must include a copy of the Pay.gov confirmation receipt page with your complaint.

* * * * *

[FR Doc. 2016-12487 Filed 6-3-16; 8:45 am]

BILLING CODE 4310-VH-P